DEPARTMENT OF TRANSPORTATION

Federal Aviation Administration

14 CFR Part 39

[Docket No. FAA-2021-0566; Project Identifier MCAI-2021-00733-T; Amendment 39-21651; AD 2021-15-04]

RIN 2120-AA64

Airworthiness Directives; The Boeing Company Airplanes

AGENCY: Federal Aviation Administration (FAA), DOT.

ACTION: Final rule; request for comments.

SUMMARY: The FAA is adopting a new airworthiness directive (AD) for certain The Boeing Company Model 767-300 series airplanes as modified by a certain supplemental type certificate (STC). This AD was prompted by a report that the electrical diagram for the C9066 circuit breaker connection (wiring) for the “Main Deck Oxygen Alert Control” is erroneous and might have resulted in incorrect installation. This AD requires inspecting the wiring connection common to the C9066 circuit breaker and, if necessary, making changes to the wiring connection and testing the main deck oxygen alert system. The FAA is issuing this AD to address the unsafe condition on these products.

DATES: This AD becomes effective July 14, 2021.

The Director of the Federal Register approved the incorporation by reference of a certain publication listed in this AD as of July 14, 2021.

The FAA must receive comments on this AD by August 30, 2021.

ADDRESSES: You may send comments, using the procedures found in 14 CFR 11.43 and 11.45, by any of the following methods:

• Federal eRulemaking Portal: Go to https://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For service information identified in this final rule, contact Israel Aerospace Industries, Ltd., Ben Gurion Airport, Israel 70100; telephone 972-39359826; email tmazor@iai.co.il. You may view this referenced service information at the FAA, Airworthiness Products Section, Operational Safety Branch, 2200 South 216th St., Des Moines, WA. For information on the availability of this material at the FAA, call 206-231-3195. It is also available on the internet at https://www.regulations.gov by searching for and locating Docket No. FAA-2021-0566.

Examining the AD Docket

You may examine the AD docket on the internet at https://www.regulations.gov by searching for and locating Docket No. FAA-2021-0566; or in person at the Docket Operations office between 9 a.m. and 5 p.m., Monday through Friday, except Federal holidays. The AD docket contains this AD, any comments received, and other information. The street address for the Docket Operations office is listed above.

FOR FURTHER INFORMATION CONTACT: Brian Hernandez, Aerospace Engineer, Systems and Equipment Section, FAA, Seattle ACO Branch, 2200 South 216th St., Des Moines, WA 98198; phone and fax: 206-231-3535; email: Brian.Hernandez@faa.gov.

SUPPLEMENTARY INFORMATION:

Background

The Civil Aviation Authority of Israel (CAAI), which is the aviation authority for Israel, has issued Israeli AD ISR-I-24-2021-6-6R1, dated June 27, 2021 (also referred to after this as the Mandatory Continuing Airworthiness Information, or the MCAI), to correct an unsafe condition for The Boeing Company Model 767-300 series airplanes, that have been modified to a Bedek Division Special Freighter (BDSF), designated as 767-300BDSF, in accordance with CAAI STC SA218/FAA STC ST02040SE/European Union Aviation Safety Agency (EASA) STC 10028430 (as listed in the appendix of the MCAI). Only FAA STC ST02040SE is approved for U.S. operators. You may examine the MCAI on the internet at https://www.regulations.gov by searching for and locating Docket No. FAA-2021-0566.

This AD was prompted by a report that the electrical diagram for the C9066 circuit breaker connection (wiring) for the “Main Deck Oxygen Alert Control” is erroneous and might have resulted in incorrect installation. This incorrect installation leads to an unprotected circuit, and therefore any wires or system components that might lie adjacent to the wiring that would normally be protected by the C9066 circuit breaker might be affected. The FAA is issuing this AD to address potential incorrect installation of the “Main Deck Oxygen Alert Control” circuit breaker, which could result in overheating and burning of the wiring, and consequently, could result in smoke triggering an alarm and causing the crew workload to increase; or could result in a short circuit to adjacent wires causing malfunctions in other systems. See the MCAI for additional background information.

Related Service Information Under 1 CFR Part 51

Israel Aerospace Industries, Ltd., has issued IAI-Aviation Group Alert Service Bulletin 368-24-098, Revision 1, dated June 2021. This service information describes procedures for a visual inspection of the wiring connection common to the C9066 circuit breaker, changes to the wiring connection, if necessary, and a test of the main deck oxygen alert system, if necessary. This service information is reasonably available because the interested parties have access to it through their normal course of business or by the means identified in the ADDRESSES section.

FAA's Determination

This product has been approved by the aviation authority of another country, and is approved for operation in the United States. Pursuant to the FAA's bilateral agreement with the State of Design Authority, the FAA has been notified of the unsafe condition described in the MCAI and service information referenced above. The FAA is issuing this AD because the FAA evaluated all pertinent information and determined the unsafe condition exists and is likely to exist or develop on other products of the same type design.

Requirements of This AD

This AD requires accomplishing the actions specified in the service information described previously.

FAA's Justification and Determination of the Effective Date

Section 553(b)(3)(B) of the Administrative Procedure Act (APA) (5 U.S.C. 551 et seq.) authorizes agencies to dispense with notice and comment procedures for rules when the agency, for “good cause,” finds that those procedures are “impracticable, unnecessary, or contrary to the public interest.” Under this section, an agency, upon finding good cause, may issue a final rule without providing notice and seeking comment prior to issuance. Further, section 553(d) of the APA authorizes agencies to make rules effective in less than thirty days, upon a finding of good cause.

An unsafe condition exists that requires the immediate adoption of this AD without providing an opportunity for public comments prior to adoption. The FAA has found that the risk to the flying public justifies forgoing notice and comment prior to adoption of this rule because incorrect installation of the “Main Deck Oxygen Alert Control” circuit breaker could result in overheating and burning of wiring, and consequently, could result in smoke triggering an alarm and causing the crew workload to increase; or could result in a short circuit to adjacent wires causing malfunctions in other systems. Furthermore, since this is a potentially unprotected circuit, if any failure occurs along the length of this circuit it could result in a fire and cause collateral damage to adjacent circuits and affect critical systems necessary for continued safe flight and landing. Accordingly, notice and opportunity for prior public comment are impracticable and contrary to the public interest pursuant to 5 U.S.C. 553(b)(3)(B). In addition, the FAA finds that good cause exists pursuant to 5 U.S.C. 553(d) for making this amendment effective in less than 30 days, for the same reasons the FAA found good cause to forgo notice and comment.

Comments Invited

The FAA invites you to send any written relevant data, views, or arguments about this AD. Send your comments to an address listed under ADDRESSES. Include “Docket No. FAA-2021-0566; Project Identifier MCAI-2021-00733-T” at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to https://www.regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Brian Hernandez, Aerospace Engineer, Systems and Equipment Section, FAA, Seattle ACO Branch, 2200 South 216th St., Des Moines, WA 98198; phone and fax: 206-231-3535; email: Brian.Hernandez@faa.gov. Any commentary that the FAA receives which is not specifically designated as CBI will be placed in the public docket for this rulemaking.

Regulatory Flexibility Act (RFA)

The requirements of the RFA do not apply when an agency finds good cause pursuant to 5 U.S.C. 553 to adopt a rule without prior notice and comment. Because the FAA has determined that it has good cause to adopt this rule without notice and comment, RFA analysis is not required.

Costs of Compliance

The FAA estimates that this AD affects 71 airplanes of U.S. registry. The FAA estimates the following costs to comply with this AD:

Estimated Costs
Action | Labor cost | Parts cost | Cost per product | Cost on U.S. operators
Inspection | 1 work-hour × $85 per hour = $85 | $0 | $85 | $6,035

The FAA estimates the following costs to do any necessary on-condition actions that would be required based on the results of the inspection. The FAA has no way of determining the number of aircraft that might need these actions:

On-Condition Costs
Action | Labor cost | Parts cost | Cost per product
Wiring change and test | 1 work-hour × $85 per hour = $85 | $0 | $85

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866, and

(2) Will not affect intrastate aviation in Alaska.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2021-15-04 The Boeing Company: Amendment 39-21651; Docket No. FAA-2021-0566; Project Identifier MCAI-2021-00733-T.

(a) Effective Date

This airworthiness directive (AD) becomes effective July 14, 2021.

(b) Affected ADs

None.

(c) Applicability

This AD applies to The Boeing Company Model 767-300 series airplanes, certificated in any category, that have been modified to a Bedek Division Special Freighter (BDSF), in accordance with FAA Supplemental Type Certificate (STC) ST02040SE (the freighter configuration is designated as 767-300BDSF), and which are listed in paragraph 1.A., “Effectivity,” of IAI-Aviation Group Alert Service Bulletin 368-24-098, Revision 1, dated June 2021.

(d) Subject

Air Transport Association (ATA) of America Code 24, Electrical Power.

(e) Reason

This AD was prompted by a report that the electrical diagram for the C9066 circuit breaker connection (wiring) for the “Main Deck Oxygen Alert Control” is erroneous and might have resulted in incorrect installation. The FAA is issuing this AD to address potential incorrect installation of the “Main Deck Oxygen Alert Control” circuit breaker, which could result in overheating and burning of the wiring, and consequently, could result in smoke triggering an alarm and causing the crew workload to increase; or could result in a short circuit to adjacent wires causing malfunctions in other systems. Furthermore, since this is a potentially unprotected circuit, if any failure occurs along the length of this circuit it could result in a fire and cause collateral damage to adjacent circuits and affect critical systems necessary for continued safe flight and landing.

(f) Compliance

Comply with this AD within the compliance times specified, unless already done.

(g) Inspection, Wiring Connection Change, and Test

Within 10 days after the effective date of this AD, perform a detailed inspection of the wiring connection common to the C9066 circuit breaker to make sure 20 AWG wire is connected to terminal 1 and the BUS is connected to terminal 2, in accordance with steps 1. through 3. of the Accomplishment Instructions of IAI-Aviation Group Alert Service Bulletin 368-24-098, Revision 1, dated June 2021. If 20 AWG wire is not connected to terminal 1 or the BUS is not connected to terminal 2, before further flight, make changes to the wiring connection and test the main deck oxygen alert system, in accordance with steps 4. through 13. of the Accomplishment Instructions of IAI-Aviation Group Alert Service Bulletin 368-24-098, Revision 1, dated June 2021.

(h) No Report

Although IAI-Aviation Group Alert Service Bulletin 368-24-098, Revision 1, dated June 2021, specifies to report inspection findings, this AD does not require any report.

(i) Alternative Methods of Compliance (AMOCs)

(1) The Manager, Seattle ACO Branch, FAA, has the authority to approve AMOCs for this AD, if requested using the procedures found in 14 CFR 39.19. In accordance with 14 CFR 39.19, send your request to your principal inspector or responsible Flight Standards Office, as appropriate. If sending information directly to the manager of the certification office, send it to the attention of the person identified in Related Information. Information may be emailed to: 9-ANM-Seattle-ACO-AMOC-Requests@faa.gov.

(2) Before using any approved AMOC, notify your appropriate principal inspector, or lacking a principal inspector, the manager of the responsible Flight Standards Office.

(j) Related Information

(1) Refer to Mandatory Continuing Airworthiness Information (MCAI) Civil Aviation Authority of Israel (CAAI) Israeli AD ISR-I-24-2021-6-6R1, dated June 27, 2021, for related information. This MCAI may be found in the AD docket on the internet at https://www.regulations.gov by searching for and locating Docket No. FAA-2021-0566.

(2) For more information about this AD, contact Brian Hernandez, Aerospace Engineer, Systems and Equipment Section, FAA, Seattle ACO Branch, 2200 South 216th St., Des Moines, WA 98198; phone and fax: 206-231-3535; email: Brian.Hernandez@faa.gov.

(k) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) IAI-Aviation Group Alert Service Bulletin 368-24-098, Revision 1, dated June 2021.

(ii) [Reserved]

(3) For service information identified in this AD, contact Israel Aerospace Industries, Ltd., Ben Gurion Airport, Israel 70100; telephone 972-39359826; email tmazor@iai.co.il.

(4) You may view this service information at the FAA, Airworthiness Products Section, Operational Safety Branch, 2200 South 216th St., Des Moines, WA. For information on the availability of this material at the FAA, call 206-231-3195.

(5) You may view this service information that is incorporated by reference at the National Archives and Records Administration (NARA). For information on the availability of this material at NARA, email fedreg.legal@nara.gov, or go to: https://www.archives.gov/federal-register/cfr/ibr-locations.html.

Issued on July 8, 2021.
Gaetano A. Sciortino,
Deputy Director for Strategic Initiatives, Compliance & Airworthiness Division, Aircraft Certification Service.

[FR Doc. 2021-15026 Filed 7-12-21; 11:15 am]

BILLING CODE 4910-13-P